DEPARTMENT OF ENERGY

Federal Energy Regulatory Commission

[Docket No. RP01-604-000]

Enbridge Pipelines (KPC); Notice of Tariff Filing and Annual Charge Adjustment

September 19, 2001.

Take notice that on September 14, 2001, Enbridge Pipelines (KPC), formerly Kansas Pipeline Company (KPC) filed the following tariff sheets to amend its FERC Gas Tariff, First Revised Volume No. 1 to be made effective October 1, 2001.

First Revised Sheet No. 16

First Revised Sheet No. 22

First Revised Sheet No. 27

First Revised Sheet No. 29

First Revised Sheet No. 31

KPC states that the purpose of the filing is to reflect a $0.0001 per dekatherm decrease in KPC's rates under its Annual Charge Adjustment (“ACA”) clause that results from a corresponding decrease in the annual charge assessed KPC by the FERC.

KPC further states that because of confusion resulting from FERC's July 27, 2001 billing and given that its filing results in a decrease of $0.0001 in KPC's Commission approved rate, KPC believed that good cause exists and therefore requested a waiver of the requirements of 154.207 of the Commission's regulations, and any other waiver that may be required, to permit the proposed tariff sheets to be made effective on October 1, 2001.

KPC states that copies of the filing have been mailed to customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 26, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23831 Filed 9-24-01; 8:45 am]

BILLING CODE 6717-01-P